EQUAL EMPLOYMENT OPPORTUNITY COMMISSION

Sunshine Act Meeting

Agency: Equal Employment Opportunity Commission.

“Federal Register Citations of Previous Announcement:” 70 FR 24413, May 9, 2005.

Previously Announced Time and Date of Meeting: 2 p.m. (Eastern Time) Monday, May 16, 2005.

Change in the Meeting: The meeting has been cancelled.

For Further Information: Stephen Llewellyn, Acting Executive Officer on (202) 663-4070.

Dated: May 16, 2005.
Stephen Llewellyn,
Acting Executive Officer.

[FR Doc. 05-10159 Filed 5-17-05; 3:25 pm]

BILLING CODE 6750-06-M